DEPARTMENT OF JUSTICE

Notice of Lodging of Consent Decree Pursuant to the Comprehensive Environmental Response, Compensation, and Liability Act of 1980, as Amended

Notice is hereby given that a proposed consent decree in the action entitled United States v. Caribe General Electric Products, Inc., et al., Civil Action No. 002482CC (D.P.R.), was lodged on November 21, 2000, with the United States District Court for the District of Puerto Rico. The proposed consent decree resolves certain claims of the United States against two potentially responsible parties (“Settling Defendants”) at the Vega Alta Public Supply Wells Superfund Site (the “Site”) located in Vega Alta, Puerto Rico, under the Comprehensive Environmental Response, Compensation, and Liability Act (“CERCLA”), 42 U.S.C. 9601 et seq. The Settling Defendants include Caribe General Electric Products, Inc. (“Caribe GE”) and Unisys Corporation (“Unisys”). Caribe GE currently has manufacturing operations at the Site, and predecessors of Unisys, the Puerto Rico Card Corporation and the Sperry Rand Corporation, previously had manufacturing operations at the Site.

Under the proposed consent decree, the Settling Defendants will pay $1,119,650, plus interest accruing from July 1, 2000 through the date of payment, in reimbursement of certain past response costs incurred by the United States at the Site. The consent decree includes a covenant not to sue by the United States under Section 107 of CERCLA, 42 U.S.C. 9607, for Past Response Costs, which are defined to include all costs, including, but not limited to, direct and indirect costs, that (i) the Environmental Protection Agency (“EPA”) paid at or in connection with the Site from November 30, 1993 through January 16, 1999, (ii) the Department of Justice, on behalf of EPA, paid at or in connection with the Site from September 30, 1993 through May 31, 1999, and (iii) accrued interest on all such costs.

The Department of Justice will receive, for a period of up to thirty days from the date of this publication, comments relating to the proposed consent decree. Comments should be addressed to the Assistant Attorney General for the Environment and Natural Resources Division, P.O. Box 7611, Ben Franklin Station, Washington, D.C. 20044, and should refer to United States v. Caribe General Electric Products, Inc., et al., DOJ Ref. Number 90-11-3-269/2.

The proposed consent decree may be examined at the offices of the United States Attorney for the District of Puerto Rico, Federal Building, Room 101, Carlos Chandon Avenue, Hato Rey, Puerto Rico 00918 (Contact Isabel Munoz, 787-766-5656). A copy of the proposed consent decree may be obtained by mail from the Department of Justice Consent Decree Library, P.O. Box 7611, Washington, D.C. 20044.

In requesting a copy, please refer to the referenced case and enclose a check in the amount of $5.75 (25 cents per page reproduction costs).

Bruce S. Gelber,
Section Chief, Environmental Enforcement Section, Environment and Natural Resources Division.

[FR Doc. 00-31263 Filed 12-7-00; 8:45 am]

BILLING CODE 4410-15-M